DEPARTMENT OF THE INTERIOR

Fish and Wildlife Service

50 CFR Part 17

RIN 1018-AT61

Endangered and Threatened Wildlife and Plants; Special Regulations for the Western Distinct Population Segment of the Gray Wolf

AGENCY: Fish and Wildlife Service, Interior.

ACTION: Proposed rule; notice of public hearing.

We, the U.S. Fish and Wildlife Service (Service), are conducting public hearings on a proposed special rule for nonessential experimental populations of the western distinct population segment of the gray wolf (Canis lupis) in Idaho and Montana. Comments previously submitted need not be resubmitted as they will be incorporated into the public record as part of this comment period, and will be fully considered in the final rule.

DATES: Comments must be received by May 10, 2004, to receive consideration. (See “Public Hearings” section for time and location of the public hearing).

ADDRESSES: Comments on the proposed rule may be sent to Western Gray Wolf Recovery Coordinator, U.S. Fish and Wildlife Service, 100 N. Park, #320, Helena, Montana 59601, or by email to WesternGrayWolf@fws.gov. You also may hand-deliver written comments to our Montana Ecological Services Field Office at the above address.

FOR FURTHER INFORMATION CONTACT: Ed Bangs, Gray Wolf Recovery Coordinator, at the above address or telephone (406) 449-5225.

SUPPLEMENTARY INFORMATION:

Background

On April 1, 2003, we published in the Federal Register (68 FR 15879) an advance notice of proposed rulemaking that announced our intention to propose rulemaking on nonessential experimental populations for the western distinct population segment of the gray wolf. On March 9, 2004, we published a proposed rule in the Federal Register (69 FR 10956) for these nonessential experimental populations and solicited public comments. Please refer to the proposed rule for background information, a summary of previous Federal actions, and provisions of the special regulations. We are now announcing public hearings to be held on this proposed rule.

Public Comments Solicited

We intend that any final action resulting from this proposal be as accurate and as effective as possible. Therefore, we solicit comments from the public, other concerned governmental agencies, the scientific community, industry, or any other interested party concerning the proposed rule. Our practice is to make comments, including names and home addresses of respondents, available for public review during regular business hours. In some circumstances, we will withhold a respondent's identity from the rulemaking record, as allowable by law. If you wish us to withhold your name or address, you must state this request prominently at the beginning of your comments. However, we will not consider anonymous comments. We will make all submissions from organizations or businesses available for public inspection in their entirety (see ADDRESSES section).

Public Hearings

In our March 9, 2004, proposed rule, we stated our intention to hold public hearings. Therefore, we will hold the following hearings:

Public Hearings

1. Helena, Montana—April 19, 2004, at the Colonial Hotel, 2301 Colonial Drive from 6 p.m. to 9 p.m.

2. Boise, Idaho—April 20, 2004, at The Grove Hotel, Evergreen Room, 245 South Capitol Blvd., from 1 p.m. to 3 p.m. and from 6 p.m. to 8 p.m.

Anyone wishing to make an oral comment or statement for the record at the public hearing listed above is encouraged (but not required) to also provide a written copy of the statement and present it to us at the hearing. Oral and written statements receive equal consideration. In the event there is a large attendance, the time allotted for oral statements may be limited.

Author

The primary author of this notice is Sharon Rose, External Affairs Officer, Denver Regional Office, telephone 303-236-4580.

Authority

Authority for this action is the Endangered Species Act of 1973, as amended (16 U.S.C. 1531 et seq.).

Dated: March 30, 2004.
Mary G. Henry,
Regional Director, Denver, Colorado.

[FR Doc. 04-7707 Filed 4-2-04; 11:22 am]

BILLING CODE 4310-55-P